NEIGHBORHOOD REINVESTMENT CORPORATION

Regular Board of Directors Meeting; Sunshine Act

TIME AND DATE: 11:00 a.m., Tuesday, September 27, 2011.

PLACE: 1325 G Street NW., Suite 800, Boardroom, Washington, DC 20005.

STATUS: Open.

CONTACT PERSON FOR MORE INFORMATION: Erica Hall, Assistant Corporate Secretary, (202) 220-2376; ehall@nw.org.

AGENDA:

I. CALL TO ORDER

II. Approval of the Annual Board of Directors Minutes

III. Approval of the Special Board of Directors Minutes

IV. Approval of the Corporate Administration Committee Minutes

V. Approval of the Finance, Budget and Program Committee Minutes

VI. Approval of the Audit Committee Minutes

VII. Executive Session on Litigation and Budget Issues

VIII. Communication of Internal Audit Reports to External Parties

IX. FY 2012 Budget

X. Financial Report

XI. Management Report

XII. Corporate Scorecard

XIII. Strategic Plan Implementation

XIV. National Foreclosure Mitigation Counseling (NFMC) & EHLP

XV. Adjournment

Erica Hall,
Assistant Corporate Secretary.

[FR Doc. 2011-24161 Filed 9-16-11; 11:15 am]

BILLING CODE 7570-02-P